DEPARTMENT OF THE INTERIOR

Bureau of Indian Affairs

25 CFR Chapter 1

Meeting of the No Child Left Behind Negotiated Rulemaking Committee

AGENCY: Bureau of Indian Affairs, Interior.

ACTION: Announcement of negotiated rulemaking committee meeting.

SUMMARY: The Secretary of the Interior has established an advisory Committee to develop recommendations for proposed rules for Indian education under six sections of the No Child Left Behind Act of 2001. As required by the Federal Advisory Committee Act, we are announcing the date and location of the next meeting of the No Child Left Behind Negotiated Rulemaking committee.

DATES: The Committee's next meeting will be held October 14-18, 2003. The meeting will begin at 1:30 pm (PST) on Tuesday, October 14 and end at 5:30 pm (PST) on Saturday, October 18.

ADDRESSES: The meeting will be held at the Tempe Mission Palms, 60 East Fifth Street, Tempe, Arizona 85281, telephone (480) 894-1400.

FOR FURTHER INFORMATION CONTACT: Barbara James or Shawna Smith, No Child Left Behind Negotiated Rulemaking Project Management Office, P.O. Box 1430, Albuquerque, NM 87103-1430; telephone (505) 248-7241/6569; fax (505) 248-7242; e-mail bjames@bia.edu or ssmith@bia.edu. We will post additional information as it becomes available on the Office of Indian Education Programs Web site under “Negotiated Rulemaking” at http//www.oiep.bia.edu.

SUPPLEMENTARY INFORMATION: For more information on negotiated rulemaking under the No Child Left Behind Act, see the Federal Register notices published on December 10, 2002 (67 FR 75828) and May 5, 2003 (68 FR 23631) or the Web site at http://www.oiep.bia.edu under “Negotiated Rulemaking.”

The items for negotiation include: Student Rights/Geographic Boundaries; Tribally Controlled Schools Act/Grants; Adequate Yearly Progress; and Funding and Distribution of Funds. The committee will meet in work groups and in full session during the week. All meetings are open to the public. There is no requirement for advance registration for members of the public who wish to attend and observe the Committee meetings or the work group meetings. Members of the public may make written comments to the Committee by sending them to the NCLB Negotiated Rulemaking Committee, Project Management Office, P.O. Box 1430, Albuquerque, New Mexico 87103. We will provide copies of the comments to the Committee.

The agenda for the October 14-18, 2003, meeting is as follows:

Agenda for No Child Left Behind Negotiated Rulemaking Committee Meeting, October 14-18, 2003, Tempe, Arizona.

Meetings end at 5:30 pm each day.

October 14

1:30 pm

Opening Remarks.

Introductions, Logistics, and Housekeeping.

Approval of summary from Nashville meeting.

Review agenda.

Committee considers consensus on proposed rule language and plain language.

Rewrites, as necessary:

• Geographic Boundaries

• Section 1130

• Adequate Yearly Progress

• Preambles—Tribally Controlled School Act and Adequate Yearly Progress

3:30 pm

Work Group meetings.

October 15

8:30 am

Roll Call and set agenda for day.

Work Group meetings, if necessary.

Committee considers consensus on proposed rule language and plain language.

Rewrites, as necessary:

• Funding

• Preambles

October 16

8:30 am

Roll Call and set agenda for day.

Public comment (30 minutes).

Committee considers consensus on proposed rule language and plain language.

Rewrites, as necessary.

October 17

8:30 am

Roll Call and set agenda for day.

Public comment (30 minutes).

Committee considers consensus on proposed rule language and plain language.

October 18

8:30 am

Roll Call and set agenda for day.

Committee considers consensus on proposed rule language and plain language.

Rewrites, as necessary.

Clarification of next steps.

Evaluations.

Closing remarks.

Brief celebration.

5:30 pm

Adjourn.

Dated: September 24, 2003.
Woodrow W. Hopper, Jr.,
Acting Principal Deputy Assistant Secretary—Indian Affairs.

[FR Doc. 03-24569 Filed 9-24-03; 3:13 pm]

BILLING CODE 4310-6W-P